DEPARTMENT OF ENERGY

Federal Energy Regulatory Commission

[Docket Nos. PR09-16-000; PR09-16-001; PR09-22-000; PR09-22-001]

Enogex LLC; Notice of Stipulation and Agreement of Settlement and Notice of Comment Period

Take notice that on October 4, 2011, Enogex LLC (Enogex) filed a Stipulation and Agreement of Settlement (Settlement) in the above-docketed proceedings. Enogex states that it is the parties' belief that the Settlement will be unopposed and will resolve all issues in these dockets in their entirety. Included in its filing was a request to set the period for filing initial and reply comments in response to the Settlement.

Notice is hereby given that the deadline for filing initial comments is Monday, October 24, 2011. Reply comments should be filed on or before Thursday, November 3, 2011.

Dated: October 6, 2011.
Kimberly D. Bose,
Secretary.

[FR Doc. 2011-26568 Filed 10-13-11; 8:45 am]

BILLING CODE 6717-01-P